DEPARTMENT OF HOMELAND SECURITY

Coast Guard

[Docket No. USCG-2010-1148]

RIN 1625-1148

Lower Mississippi River Waterway Safety Advisory Committee; Meeting

AGENCY: Coast Guard, DHS.

ACTION: Notice of meeting.

SUMMARY: The Lower Mississippi River Waterway Safety Advisory Committee will meet in New Orleans to discuss safe transit of vessels and products to and from the ports and related waterways of the Lower Mississippi River and related waterways. This meeting will be open to the public.

DATES: The Committee will meet on Thursday, March 24, 2011, from 9 a.m. to 12 p.m. This meeting may close early if all business is finished. Written materials and requests to make oral presentations should reach the Coast Guard on or before March 10, 2011. Due to time limitations, all oral presentations will be limited to thirty (30) minutes to ensure procedural timeliness for this three hour meeting. Written materials should reach the Coast Guard on or before March 17, 2011 so that copies may be provided to the members of this committee prior to the meeting.

ADDRESSES: The Committee will meet at the Sector New Orleans Building, 200 Hendee Street, New Orleans Louisiana 70124, First Floor, Training Room A. Send written material and requests to make oral presentations to Commander, Coast Guard Sector New Orleans Designated Federal Officer (DFO) of Lower Mississippi River Waterway Safety Advisory Committee, ATTN: Waterways Management, 200 Hendee St., New Orleans, LA 70114. This notice, and documents identified in the SUPPLEMENTARY INFORMATION section as being available in the docket may be viewed in our online docket, USCG-2010-1148, at http://www.regulations.gov.

FOR FURTHER INFORMATION CONTACT: Chief Warrant Officer David Chapman, Assistant to the DFO of Lower Mississippi River Waterway Safety Advisory Committee, telephone 504-365-2282.

SUPPLEMENTARY INFORMATION: Notice of this meeting is given under the Federal Advisory Committee Act, 5 U.S.C. App. (Pub. L. 92-463).

Agenda of Meeting

The agenda for the March 24, 2011 Committee meeting is as follows:

(1) Introduction of committee members and guest.

(2) Opening Remarks.

(3) Approval of the September, 2010 minutes.

(4) Captain of the Port remarks.

(5) Eighth Coast Guard District remarks.

(6) New Business, to include discussion of the Regulated Navigation Area (RNA); Gulf Intracoastal Waterway, Inner Harbor Navigation Canal, Harvey Canal, Algiers Canal, New Orleans, LA published in the Federal Register, Vol. 75, page 32275 (75 FR 32275), on June 8, 2010, Docket No. USCG-2009-0139, with corrections published July 12, 2010 (75 FR 39632).

(7) Old Business.

(8) Adjournment.

The reports and minutes, which will be discussed by the Committee, may be viewed in our online docket. Go to http://www.regulations.gov, enter the docket number for this notice (USCG-2010-1148) in the “Keyword” box, and then click “Search.”

Procedural

This meeting is open to the public. Please note that the meeting may close early if all business is finished. At the Chair's discretion, members of the public may make oral presentations during the meeting. If you would like to make an oral presentation at a meeting, please notify the DFO no later than March 17, 2011. As noted above, oral presentations and comments by members of the public will be limited to 3 minutes. If you would like to submit written material for distribution at the meeting, please provide fifty (50) copies to the DFO no later than March 17, 2011. A copy of any submitted materials will be distributed to each member of the committee in advance of the meeting.

Information on Services for Individuals With Disabilities

For information on facilities or services for individuals with disabilities or to request special assistance at the meeting, contact the DFO as soon as possible.

Dated: February 28, 2011.
Mary E. Landry,
Rear Admiral, U.S. Coast Guard, Commander, Eighth Coast Guard District.

[FR Doc. 2011-5446 Filed 3-7-11; 11:15 am]

BILLING CODE 9110-04-P